DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for the Baltimore Red Line Project, Baltimore County and City, MD. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before August 15, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation project listed below. The actions on this project, as well as the laws under which such actions were taken, are described in the documentation issued in connection with the project to comply with the National Environmental Policy Act (NEPA) and in other documents in the FTA administrative record for the project. Interested parties may contact either the project sponsor or the relevant FTA Regional Office for more information on the project. Contact information for FTA's Regional Offices may be found at http://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register.

The project and actions that are the subject of this notice are:

Project name and location: Baltimore Red Line Project, Baltimore County and City, MD. Project sponsor: Maryland Transit Administration (MTA). Project description: The project consists of a 14.1-mile light rail transit line from the Centers for Medicare and Medicaid Services (CMS) in Baltimore County to the Johns Hopkins Bayview Medical Center campus in Baltimore City. The transitway includes a combination of surface, tunnel, and aerial segments. Key elements include a new double-track alignment; two tunnels (Cooks Lane and Downtown Tunnels); an Operations and Maintenance Facility (OMF) for storage of up to 38 light rail vehicles; a traction power system including overhead catenary system; traction power substation; central instrument houses; 19 stations (14 surface and 5 underground); three new park-and-ride lots (Security Square, I-70, and Brewer's Hill/Canton Crossing); and ventilation system elements including ventilation buildings, fans, air plenums, and shafts for the underground sections; and other ancillary facilities. Final agency actions: Section 4(f) determination; a Section 106 Programmatic Agreement, dated February 26, 2013; project-level air quality conformity, and Record of Decision (ROD), dated February 28, 2013. Supporting documentation: Final Environmental Impact Statement, dated December 2012.

Issued on: March 12, 2013.
Lucy Garliauskas,
Associate Administrator for Planning and Environment, Washington, DC.

[FR Doc. 2013-06134 Filed 3-15-13; 8:45 am]

BILLING CODE P